DEPARTMENT OF LABOR

Employment and Training Administration

Amended Certification Regarding Eligibility To Apply for Worker Adjustment Assistance

TA-W-73,102

Hewlett Packard Company, Personal Systems Group—Desktop (Cupertino only), Customer Warranty, Emerging Business, Supply Chain, Volume Operations, Worldwide Sales, and Americas Region Organizations Including Teleworkers Across California and Workers On-Site in: Anaheim, Cupertino, Oxnard, Palo Alto, Roseville, San Diego, and Sunnyvale, CA

TA-W-73,102A

Hewlett Packard Company, Personal Systems Group—Desktop (Fort Collins only), Customer Warranty, Emerging Business, Supply Chain, Volume Operations, Worldwide Sales, and Americas Region Organizations Including Teleworkers Across Colorado and Workers On-Site in: Colorado Springs and Fort Collins, CO

TA-W-73,102B

Hewlett Packard Company, Personal Systems Group—Desktop (Houston only), Customer Warranty, Emerging Business, Supply Chain, Volume Operations, Worldwide Sales, and Americas Region Organizations Including Teleworkers Across Texas and Workers On-Site in: Austin, Houston, and Richardson, TX

TA-W-73,102C

Hewlett Packard Company, Personal Systems Group—Desktop (King of Prussia only), Customer Warranty, Emerging Business, Supply Chain, Volume Operations, Worldwide Sales, and Americas Region Organizations Including Teleworkers Across Pennsylvania and Workers On-Site in: King of Prussia and Philadelphia, PA

TA-W-73,102D

Hewlett Packard Company, Personal Systems Group—Customer Warranty, Emerging Business, Supply Chain, Volume Operations, Worldwide Sales, and Americas Region Organizations Teleworkers Across Alabama

TA-W-73,102E

Hewlett Packard Company, Personal Systems Group—Customer Warranty, Emerging Business, Supply Chain, Volume Operations, Worldwide Sales, and Americas Region Organizations Conway, AR

TA-W-73,102F

Hewlett Packard Company, Personal Systems Group—Customer Warranty, Emerging Business, Supply Chain, Volume Operations, Worldwide Sales, and Americas Region Organizations Teleworkers Across Arizona

TA-W-73,102G

Hewlett Packard Company, Personal Systems Group—Customer Warranty, Emerging Business, Supply Chain, Volume Operations, Worldwide Sales, and Americas Region Organizations Including Teleworkers Across Connecticut and Workers On-Site in: Nashua, CT

TA-W-73,102H

Hewlett Packard Company, Personal Systems Group—Customer Warranty, Emerging Business, Supply Chain, Volume Operations, Worldwide Sales, and Americas Region Organizations Including Teleworkers Across Florida and Workers On-Site in: Miami, FL

TA-W-73,102I

Hewlett Packard Company, Personal Systems Group—Customer Warranty, Emerging Business, Supply Chain, Volume Operations, Worldwide Sales, and Americas Region Organizations Including Teleworkers Across Georgia and Workers On-Site in: Alpharetta and Atlanta, GA

TA-W-73,102J

Hewlett Packard Company, Personal Systems Group—Customer Warranty, Emerging Business, Supply Chain, Volume Operations, Worldwide Sales, and Americas Region Organizations Des Moines, IA

TA-W-73,102K

Hewlett Packard Company, Personal Systems Group—Customer Warranty, Emerging Business, Supply Chain, Volume Operations, Worldwide Sales, and Americas Region Organizations Boise, ID

TA-W-73,102L

Hewlett Packard Company, Personal Systems Group—Customer Warranty, Emerging Business, Supply Chain, Volume Operations, Worldwide Sales, and Americas Region Organizations Including On-Site Leased Workers of Chimes and Manpower Including Teleworkers Across Illinois and Workers On-Site in: Downers Grove, IL

TA-W-73,102M

Hewlett Packard Company, Personal Systems Group—Customer Warranty, Emerging Business, Supply Chain, Volume Operations, Worldwide Sales, and Americas Region Organizations Including On-Site Leased Workers of Chimes and Manpower Including Teleworkers Across Indiana and Workers On-Site in: Carmel, Indianapolis, and Plainfield, IN

TA-W-73,102N

Hewlett Packard Company, Personal Systems Group—Customer Warranty, Emerging Business, Supply Chain, Volume Operations, Worldwide Sales, and Americas Region Organizations Teleworkers Across Kansas

TA-W-73,102O

Hewlett Packard Company, Personal Systems Group—Customer Warranty, Emerging Business, Supply Chain, Volume Operations, Worldwide Sales, and Americas Region Organizations Teleworkers Across Kentucky

TA-W-73,102P

Hewlett Packard Company, Personal Systems Group—Customer Warranty, Emerging Business, Supply Chain, Volume Operations, Worldwide Sales, and Americas Region Organizations Including Teleworkers Across Massachusetts and Workers On-Site in: Andover, Marlborough, Nashua, and Westborough, MA

TA-W-73,102Q

Hewlett Packard Company, Personal Systems Group—Customer Warranty, Emerging Business, Supply Chain, Volume Operations, Worldwide Sales, and Americas Region Organizations Including Teleworkers Across Maryland and Workers On-Site in: Bethesda, MD

TA-W-73,102R

Hewlett Packard Company, Personal Systems Group—Customer Warranty, Emerging Business, Supply Chain, Volume Operations, Worldwide Sales, and Americas Region Organizations Including Teleworkers Across Michigan and Workers On-Site in: Farmington Hills, MI

TA-W-73,102S

Hewlett Packard Company, Personal Systems Group—Customer Warranty, Emerging Business, Supply Chain, Volume Operations, Worldwide Sales, and Americas Region Organizations Including Teleworkers Across Minnesota and Workers On-Site in: Minneapolis, MN

TA-W-73,102T

Hewlett Packard Company, Personal Systems Group—Customer Warranty, Emerging Business, Supply Chain, Volume Operations, Worldwide Sales, and Americas Region Organizations Teleworkers Across Missouri

TA-W-73,102U

Hewlett Packard Company, Personal Systems Group—Customer Warranty, Emerging Business, Supply Chain, Volume Operations, Worldwide Sales, and Americas Region Organizations Including Teleworkers Across North Carolina and Workers On-Site in: Greensboro, NC

TA-W-73,102V

Hewlett Packard Company, Personal Systems Group—Customer Warranty, Emerging Business, Supply Chain, Volume Operations, Worldwide Sales, and Americas Region Organizations Omaha, NE

TA-W-73,102W

Hewlett Packard Company, Personal Systems Group—Customer Warranty, Emerging Business, Supply Chain, Volume Operations, Worldwide Sales, and Americas Region Organizations Including Teleworkers Across New Hampshire and Workers On-Site in: Marlborough and Nashua, NH

TA-W-73,102X

Hewlett Packard Company, Personal Systems Group—Customer Warranty, Emerging Business, Supply Chain, Volume Operations, Worldwide Sales, and Americas Region Organizations Teleworkers Across New Jersey

TA-W-73,102Y

Hewlett Packard Company, Personal Systems Group—Customer Warranty, Emerging Business, Supply Chain, Volume Operations, Worldwide Sales, and Americas Region Organizations Rio Rancho, NM

TA-W-73,102Z

Hewlett Packard Company, Personal Systems Group—Customer Warranty, Emerging Business, Supply Chain, Volume Operations, Worldwide Sales, and Americas Region Organizations Including Teleworkers Across New York and Workers On-Site in: Syracuse, NY

TA-W-73,102AA

Hewlett Packard Company, Personal Systems Group—Customer Warranty, Emerging Business, Supply Chain, Volume Operations, Worldwide Sales, and Americas Region Organizations Teleworkers Across Ohio

TA-W-73,102BB

Hewlett Packard Company, Personal Systems Group—Customer Warranty, Emerging Business, Supply Chain, Volume Operations, Worldwide Sales, and Americas Region Organizations Teleworkers Across Oklahoma

TA-W-73,102CC

Hewlett Packard Company, Personal Systems Group—Customer Warranty, Emerging Business, Supply Chain, Volume Operations, Worldwide Sales, and Americas Region Organizations Teleworkers Across Oregon

TA-W-73,102DD

Hewlett Packard Company, Personal Systems Group—Customer Warranty, Emerging Business, Supply Chain, Volume Operations, Worldwide Sales, and Americas Region Organizations Teleworkers Across Tennessee

TA-W-73,102EE

Hewlett Packard Company, Personal Systems Group—Customer Warranty, Emerging Business, Supply Chain, Volume Operations, Worldwide Sales, and Americas Region Organizations Teleworkers Across Utah

TA-W-73,102FF

Hewlett Packard Company, Personal Systems Group—Customer Warranty, Emerging Business, Supply Chain, Volume Operations, Worldwide Sales, and Americas Region Organizations Including Teleworkers Across Virginia and Workers On-Site in: Richmond, VA

TA-W-73,102GG

Hewlett Packard Company, Personal Systems Group—Customer Warranty, Emerging Business, Supply Chain, Volume Operations, Worldwide Sales, and Americas Region Organizations Teleworkers Across Vermont

TA-W-73,102HH

Hewlett Packard Company, Personal Systems Group—Customer Warranty, Emerging Business, Supply Chain, Volume Operations, Worldwide Sales, and Americas Region Organizations Teleworkers Across Washington and Workers On-Site in: Bellevue and Vancouver, WA

TA-W-73,102II

Hewlett Packard Company, Personal Systems Group—Customer Warranty, Emerging Business, Supply Chain, Volume Operations, Worldwide Sales, and Americas Region Organizations Teleworkers Across Wisconsin and Workers On-Site in: Greenville, WI

In accordance with Section 223 of the Trade Act of 1974, as amended (“Act”), 19 U.S.C. 2273, the Department of Labor issued a Certification of Eligibility to Apply for Worker Adjustment Assistance on March 2, 2010, applicable to workers of Hewlett Packard Company, Personal Systems Group—Desktop Organization at four separate locations: Cupertino, California (including off-site teleworkers reporting to this location); Fort Collins, Colorado (TA-W-73,102A); Houston, Texas (TA-W-73,102B); and King of Prussia, Pennsylvania (TA-W-73,102C). The Department's notice of determination was published in the Federal Register on April 23, 2010 (75 FR 21362).

New investigations were initiated in response to petitions filed on October 20, 2010 by a California State workforce official (TA-W-74,753) and November 23, 2010 by a company official (TA-W-74,917) on behalf of workers in 36 States in the Customer Warranty, Emerging Business, Supply Chain, Volume Operations, Worldwide Sales, and Americas Region Organizations within the Personal Systems Group of the Hewlett Packard Company. The workers are engaged in marketing, sales, call center, customer experience, solutions, engineering, supply chain, research, and product development services for personal computing system products.

The investigations established that workers in the Customer Warranty, Emerging Business, Supply Chain, Volume Operations, Worldwide Sales, and Americas Region Organizations within the Personal Systems Group of the Hewlett Packard Company meet the criteria for certification of Section 222(a) of the Trade Act in the same way as workers certified under TA-W-73,102. Moreover, the investigations established that workers were separated more than one year before the petition date of TA-W-74,753 and that the worker separations were attributable to the same shift of services that were the basis of certification number TA-W-73,102.

Therefore, at the request of the company official, certification number TA-W-73,102 is being amended to include workers in 36 States in the Customer Warranty, Emerging Business, Supply Chain, Volume Operations, Worldwide Sales, and Americas Region Organizations who were totally or partially separated or threatened with total or partial separation on or after December 9, 2008 through March 2, 2012. Petitions TA-W-74,753 and TA-W-74,917 are being terminated.

The amended notice applicable to TA-W-73,102 is hereby issued as follows:

All workers of Hewlett Packard Company, Personal Systems Group, in the following organizations: Desktop Organization, at the following locations only: Cupertino, California (73,102); Fort Collins, Colorado (73,102A); Houston, Texas (73,102B); and King of Prussia, Pennsylvania (73,102C); and Customer Warranty, Emerging Business, Supply Chain, Volume Operations, Worldwide Sales, and Americas Region Organizations, at the following locations: Anaheim, Cupertino, Oxnard, Palo Alto, Roseville, San Diego, and Sunnyvale, California, and teleworkers across California (TA-W-73,102); Colorado Springs and Fort Collins, Colorado, and teleworkers across Colorado (TA-W-73,102A); Austin, Houston, and Richardson, Texas, and teleworkers across Texas (TA-W-73,102B); King of Prussia and Philadelphia, Pennsylvania, and teleworkers across Pennsylvania (TA-W-73,102C); teleworkers across Alabama (TA-W-73,102D); Conway, Arkansas (TA-W-73,102E); teleworkers across Arizona (TA-W-73,102F); Nashua, Connecticut, and teleworkers across Connecticut (TA-W-73,102G); Miami, Florida, and teleworkers across Florida (TA-W-73,102H); Alpharetta and Atlanta, Georgia, and teleworkers across Georgia (TA-W-73,102I); Des Moines, Iowa (TA-W-73,102J); Boise, Idaho (TA-W-73,102K); Downers Grove, Illinois, and teleworkers across Illinois (TA-W-73,102L); Carmel, Indianapolis, and Plainfield, Indiana, and teleworkers across Indiana (TA-W-73,102M); teleworkers across Kansas (TA-W-73,102N); teleworkers across Kentucky (TA-W-73,102O); Andover, Marlborough, Nashua, and Westborough, Massachusetts, and teleworkers across Massachusetts (TA-W-73,102P); Bethesda, Maryland, and teleworkers across Maryland (TA-W-73,102Q); Farmington Hills, Michigan, and teleworkers across Michigan (TA-W-73,102R); Minneapolis, Minnesota, and teleworkers across Minnesota (TA-W-73,102S); teleworkers across Missouri (TA-W-73,102T); Greensboro, North Carolina, and teleworkers across North Carolina (TA-W-73,102U); Omaha, Nebraska (TA-W-73,102V); Marlborough and Nashua, New Hampshire, and teleworkers across New Hampshire (TA-W-73,102W); teleworkers across New Jersey (TA-W-73,102X); Rio Rancho, New Mexico (TA-W-73,102Y); Syracuse, New York and teleworkers across New York (TA-W-73,102Z); teleworkers across Ohio (TA-W-73,102AA); teleworkers across Oklahoma (TA-W-73,102BB); teleworkers across Oregon (TA-W-73,102CC); teleworkers across Tennessee (TA-W-73,102DD); teleworkers across Utah (TA-W-73,102EE); Richmond, Virginia, and teleworkers across Virginia (TA-W-73,102FF); teleworkers across Vermont (TA-W-73,102GG); Bellevue and Vancouver, Washington, and teleworkers across Washington (TA-W-73,102HH); Greenville, Wisconsin, and teleworkers across Wisconsin (TA-W-73,102II), who became totally or partially separated from employment on or after December 9, 2008 through March 2, 2012, and all workers in the group threatened with total or partial separation from employment on the date of certification through two years from the date of certification, are eligible to apply for adjustment assistance under Chapter 2 of Title II of the Trade Act of 1974, as amended.

Signed in Washington, DC, this 10th day of December 2010.
Michael W. Jaffe,
Certifying Officer, Office of Trade Adjustment Assistance.

[FR Doc. 2010-33051 Filed 12-30-10; 8:45 am]

BILLING CODE 4510-FN-P